DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Highly Migratory Species (HMS) Scientific Research Permits, Exempted Fishing Permits, Letters of Acknowledgment, Display Permits, and Shark Research Fishery Permits.

OMB Control Number: 0648-0471.

Form Number(s): NA.

Type of Request: Regular submission (extension with revisions of a current information collection).

Number of Respondents: 75.

Average Hours per Response: Research plans, 2 hours; permit applications and annual reports, 40 minutes; amendments to permits, 15 minutes; interim reports, 1 hour; departure calls for collection of display animals, 5 minutes; notifications for observer coverage, 10 minutes; tag applications, 2 minutes.

Burden Hours: 236.

Needs and Uses: Exempted Fishing Permits (EFPs), Scientific Research Permits (SRPs), Display Permits, Letters of Acknowledgment (LOAs), and Shark Research Permits are issued under the authority of the Magnuson-Stevens Fishery Conservation and Management Reauthorization Act (Magnuson-Stevens Act) (16 U.S.C. 1801 et seq.) and/or the Atlantic Tunas Convention Act (ATCA) (16 U.S.C. 971 et seq.). Issuance of EFPs and related permits are necessary for the collection of Highly Migratory Species (HMS) for public display and scientific research that is exempt from regulations (e.g., seasons, prohibited species, authorized gear, and minimum sizes) that may prohibit the collection of live animals or biological samples. A Display Permit is issued for the collection of HMS for the purpose of public display whereas a Shark Research Permit allows the National Marine Fisheries Service (NMFS) and commercial shark fishermen to conduct cooperative research to collect fishery-dependent data for management of the Atlantic shark fishery.

Regulations at 50 CFR 600.745 and 50 CFR 635.32 govern scientific research activity, exempted fishing, and exempted educational activities with respect to Atlantic HMS. Since the Magnuson-Stevens Act does not consider scientific research to be “fishing,” scientific research is exempt from this statute, and NMFS does not issue EFPs for bona fide research activities (e.g., research conducted from a research vessel and not a commercial or recreational fishing vessel) involving species that are regulated only under the Magnuson-Stevens Act (e.g., most species of sharks) and not under ATCA. NMFS requests copies of scientific research plans for these activities and indicates concurrence by issuing a LOA to researchers to indicate that the proposed activity meets the definition of research and is therefore exempt from regulation.

Scientific research is not exempt from regulation under ATCA. NMFS issues SRPs for collection of species managed under this statute (e.g., tunas, swordfish, billfish), which authorize researchers to collect HMS from bona fide research vessels (e.g., NMFS or university research vessel.) NMFS will issue an EFP when research/collection involving Atlantic tunas, swordfish, and billfishes occurs from commercial or recreational fishing platforms.

To regulate these fishing activities, NMFS needs information to determine the justification of granting an EFP, LOA, SRP, Display or Shark Research Permit. The application requirements are detailed at 50 CFR 600.745(b)(2). Interim, annual and no-catch/fishing reports must also be submitted to the HMS Management Division within NMFS. The authority for the HMS Management Division for requiring this information is found at 50 CFR 635.32(a).

Revisions: Shark research permit application forms are now separate from those for other research permits. In addition, shark research observers are no longer required to apply for research permits.

Affected Public: Business or other for-profit organizations.

Frequency: Annually and on occasion.

Respondent's Obligation: Required to obtain or maintain benefits.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: May 24, 2011.
Gwellnar Banks,
Management Analyst, Office of the Chief Information Officer.

[FR Doc. 2011-13156 Filed 5-26-11; 8:45 am]

BILLING CODE 3510-22-P